FEDERAL RETIREMENT THRIFT INVESTMENT BOARD

Sunshine Act Meeting Notice

Time and Date: 9:00 a.m. (EST); Correction: February 20, 2003.

Place: 4th Floor, Conference Room, 1250 H Street, NW., Washington, DC.

ACTION: Notice; correction.

SUMMARY: The Federal Retirement Thrift Investment Board published a notice in the Federal Register of Wednesday, February 12, 2003, Volume 68, No. 29, page 7115, concerning upcoming Board member meeting. The document contained an incorrect time.

Correction

In the Federal Register of Wednesday, February 12, 2003, Volume 68, No. 29, on page 7115, third line, left side, correct the time to read 10 a.m.

CONTACT PERSON FOR MORE INFORMATION: Thomas J. Trabucco, Director, Office of External Affairs, (202) 942-1640.

Dated: February 12, 2003.
Elizabeth S. Woodruff,
Secretary to the Board, Federal Retirement Thrift Investment Board.

[FR Doc. 03-3839 Filed 2-12-03; 12:31 pm]

BILLING CODE 6760-01-M